DEPARTMENT OF TRANSPORTATION

Federal Aviation Administration

14 CFR Part 97

[Docket No. 31094; Amdt. No. 3711]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 30, 2016. The compliance date for each SIAP, associated Takeoff Minimums, and ODP is specified in the amendatory provisions.

The incorporation by reference of certain publications listed in the regulations is approved by the Director of the Federal Register as of September 30, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on August 26, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 13 October 2016

Melbourne, AR, Melbourne Muni—John E Miller Field, RNAV (GPS) RWY 3, Amdt 2

Melbourne, AR, Melbourne Muni—John E Miller Field, RNAV (GPS) RWY 21, Amdt 2

Oakland, CA, Metropolitan Oakland Intl, ILS OR LOC RWY 30, ILS RWY 30 (SA CAT I), ILS RWY 30 (CATII), ILS RWY 30 (CAT III), Amdt 29A

Oakland, CA, Metropolitan Oakland Intl, ILS OR LOC/DME RWY 28R, Amdt 37A

Tampa, FL, Peter O Knight, RNAV (GPS) RWY 36, Amdt 2D

Cordele, GA, Crisp County—Cordele, LOC RWY 10, Orig-D

Washington, GA, Washington-Wilkes County, RNAV (GPS) RWY 13, Amdt 1A

Effective 10 November 2016

Chalkyitsik, AK, Chalkyitsik, Takeoff Minimums and Obstacle DP, Amdt 1

Chevak, AK, Chevak, Takeoff Minimums and Obstacle DP, Amdt 1

Kotlik, AK, Kotlik, Takeoff Minimums and Obstacle DP, Amdt 1

Russian Mission, AK, Russian Mission, Takeoff Minimums and Obstacle DP, Amdt 2

Danville, AR, Danville Muni, RNAV (GPS) RWY 11, Orig

Danville, AR, Danville Muni, RNAV (GPS) RWY 29, Orig

Danville, AR, Danville Muni, Takeoff Minimums and Obstacle DP, Orig

Phoenix, AZ, Phoenix-Mesa Gateway, RNAV (GPS) RWY 12C, Amdt 1B

Camarillo, CA, Camarillo, Takeoff Minimums and Obstacle DP, Amdt 4

Colusa, CA, Colusa County, Takeoff Minimums and Obstacle DP, Orig-A

Fallbrook, CA, Fallbrook Community Airpark, FALLBROOK ONE Graphic DP

Fallbrook, CA, Fallbrook Community Airpark, Takeoff Minimums and Obstacle DP, Amdt 1

Fresno, CA, Fresno Chandler Executive, NDB OR GPS-B, Amdt 7C, CANCELED

Hemet, CA, Hemet-Ryan, Takeoff Minimums and Obstacle DP, Amdt 3

Los Angeles, CA, Los Angeles Intl, Takeoff Minimums and Obstacle DP, Amdt 13

Denver, CO, Denver Intl, RNAV (GPS) Y RWY 16L, Amdt 1B

Montrose, CO, Montrose Rgnl, ILS OR LOC/DME RWY 17, Amdt 2D

Montrose, CO, Montrose Rgnl, RNAV (GPS) RWY 13, Orig-C

Montrose, CO, Montrose Rgnl, RNAV (GPS) RWY 35, Orig-C

Montrose, CO, Montrose Rgnl, RNAV (GPS) Y RWY 17, Orig-C

Montrose, CO, Montrose Rgnl, RNAV (GPS) Z RWY 17, Orig-C

Montrose, CO, Montrose Rgnl, VOR RWY 13, Amdt 9C

Telluride, CO, Telluride Rgnl, LOC RWY 9, Amdt 3A

Tinian Island, CQ, Tinian Intl, NDB-A, Amdt 3

Greensboro, GA, Greene County Rgnl, RNAV (GPS) RWY 25, Amdt 2

Greensboro, GA, Greene County Rgnl, VOR-B, Amdt 3

Monticello, IN, White County, RNAV (GPS) RWY 18, Amdt 1

Monticello, IN, White County, RNAV (GPS) RWY 36, Amdt 1

Monticello, IN, White County, Takeoff Minimums and Obstacle DP, Amdt 3

Hopkinsville, KY, Hopkinsville-Christian County, LOC RWY 26, Amdt 4, CANCELED

Hopkinsville, KY, Hopkinsville-Christian County, NDB RWY 26, Amdt 7, CANCELED

Hyannis, MA, Barnstable Muni-Boardman/Polando Field, VOR RWY 6, Amdt 10

Plymouth, MA, Plymouth Muni, RNAV (GPS) RWY 15, Orig

Butte, MT, Bert Mooney, VOR OR GPS-B, Amdt 1C

Great Falls, MT, Great Falls Intl, GPS RWY 34, Orig, CANCELED

Falls City, NE, Brenner Field, NDB-A, Amdt 3C, CANCELED

Astoria, OR, Astoria Rgnl, ASTORIA TWO Graphic DP

Astoria, OR, Astoria Rgnl, Takeoff Minimums and Obstacle DP, Amdt 6

Corvallis, OR, Corvallis Muni, ILS OR LOC RWY 17, Amdt 4

Corvallis, OR, Corvallis Muni, RNAV (GPS) RWY 17, Amdt 1

Corvallis, OR, Corvallis Muni, Takeoff Minimums and Obstacle DP, Amdt 6A

Hermiston, OR, Hermiston Muni, Takeoff Minimums and Obstacle DP, Orig-A

Paris, TN, Henry County, NDB RWY 2, Amdt 3, CANCELED

Waynesboro, VA, Eagle's Nest, RNAV (GPS) RWY 6, Amdt 1

Waynesboro, VA, Eagle's Nest, RNAV (GPS) RWY 24, Amdt 1

Ellensburg, WA, Bowers Field, RNAV (GPS) RWY 25, Amdt 1A

Ellensburg, WA, Bowers Field, RNAV (GPS)-C, Orig-C

Ellensburg, WA, Bowers Field, VOR-B, Amdt 3C

Ellensburg, WA, Bowers Field, VOR/DME-A, Amdt 3A

Oak Harbor, WA, A J Eisenberg, RADAR-1, CANCELED

Wenatchee, WA, Pangborn Memorial, Takeoff Minimums and Obstacle DP, Amdt 5

Wenatchee, WA, Pangborn Memorial, WENATCHEE ONE Graphic DP

Pulaski, WI, Carter, VOR OR GPS-A, Amdt 4, CANCELED

Big Piney, WY, Miley Memorial Field, RNAV (GPS) RWY 31, Orig-C

Gillette, WY, Gillette-Campbell County, ILS OR LOC RWY 34, Amdt 4

Gillette, WY, Gillette-Campbell County, RNAV (GPS) RWY 16, Orig-A

Gillette, WY, Gillette-Campbell County, RNAV (GPS) RWY 34, Orig-A

Gillette, WY, Gillette-Campbell County, Takeoff Minimums and Obstacle DP, Amdt 5

Gillette, WY, Gillette-Campbell County, VOR RWY 16, Orig-A

Gillette, WY, Gillette-Campbell County, VOR/DME RWY 34, Amdt 1, CANCELED

RESCINDED: On August 4, 2016 (81 FR 51339), the FAA published an Amendment in Docket No. 31085, Amdt No. 3703 to Part 97 of the Federal Aviation Regulations under section 97.33. The following entry, effective September 15, 2016, is hereby rescinded in its entirety:

Fort Myers, FL, Southwest Florida Intl, RNAV (GPS) RWY 6, Amdt 2

RESCINDED: On August 25, 2016 (81 FR 58387), the FAA published an Amendment in Docket No. 31089, Amdt No. 3707 to Part 97 of the Federal Aviation Regulations under section 97.33, 97.23. The following entries, effective September 15, 2016, are hereby rescinded in their entirety:

Clinton, OK, Clinton Rgnl, RNAV (GPS) RWY 17, Amdt 3

Clinton, OK, Clinton Rgnl, RNAV (GPS) RWY 35, Amdt 4

Clinton, OK, Clinton Rgnl, VOR/DME-A, Orig, CANCELED

Elk City, OK, Elk City Rgnl Business, RNAV (GPS) RWY 17, Amdt 2

Elk City, OK, Elk City Rgnl Business, RNAV (GPS) RWY 35, Amdt 2

Weatherford, OK, Thomas P Stafford, RNAV (GPS) RWY 35, Amdt 3

Canadian, TX, Hemphill County, RNAV (GPS) RWY 4, Amdt 2

Wheeler, TX, Wheeler Muni, RNAV (GPS) RWY 17, Orig-A, CANCELED

Wheeler, TX, Wheeler Muni, RNAV (GPS) RWY 35, Orig-A, CANCELED

Wheeler, TX, Wheeler Muni, RNAV (GPS)-A, Orig

Wheeler, TX, Wheeler Muni, RNAV (GPS)-B, Orig

Wheeler, TX, Wheeler Muni, VOR/DME-A, Amdt 2, CANCELED

[FR Doc. 2016-23406 Filed 9-29-16; 8:45 am]

BILLING CODE 4910-13-P